DEPARTMENT OF COMMERCE

National Telecommunications and Information Administration

NOTICE: Request for Nominations and Expressions of Interest, Joint Advisory Committee

AGENCY: National Telecommunications and Information Administration, U.S. Department of Commerce

ACTION: Notice, Request for Nominations and Expressions of Interest

SUMMARY: Pursuant to Section 2201(c) of the Implementing Recommendations of the 9/11 Commission Act of 2007, Public Law No. 110-53, 121 Stat. 266, ___(2007) (Act), the National Telecommunications and Information Administration (NTIA), Department of Commerce, and the Federal Communications Commission (FCC) are establishing the Joint Advisory Committee on Communications Capabilities of Emergency Medical and Public Health Care Facilities (Committee). By February 4, 2008, the Committee is to assess and submit a report to Congress on the communications capabilities and needs of emergency medical and public health care facilities and the options to accommodate growth of communications services and to improve integration of communications systems used by such facilities. NTIA and FCC are requesting nominations from interested organizations of qualified individuals, and the submission of expressions of interest from individuals who desire to serve as members of the Committee.

DATES: Nominations and expressions of interest must be delivered or electronically transmitted on or before September 12, 2007. Nominations or expressions of interest received after this date might not be considered.

ADDRESSES: Nominations and expressions of interest should be delivered to the attention of Eric Werner, Senior Advisor, Office of the Assistant Secretary, National Telecommunications and Information Administration, 1401 Constitution Avenue NW., Room 4898, Washington DC, 20230; by facsimile transmission to (202) 501-0536; or by electronic mail to: jointadvisorycommittee@@ntia.doc.gov AND to the attention of Lisa M. Fowlkes, Deputy Chief, Public Safety and Homeland Security Bureau, Federal Communications Commission, 445 12th Street, SW., Room 7-C753,Washington, DC 20554; by facsimile transmission to (202) 418-2817; or by electronic mail to lisa.fowlkes@fcc.gov.

FOR FURTHER INFORMATION CONTACT: Eric Werner at (202) 482-0014 or ewerner@ntia.doc.gov; or Lisa M. Fowlkes at (202) 418-7452 or lisa.fowlkes@fcc.gov.

SUPPLEMENTARY INFORMATION: On August 3, 2007, the President signed the Implementing Recommendations of the 9/11 Commission Act of 2007, Public Law No. 110-53 (Act). Section 2201(c) of the Act requires the Assistant Secretary of Commerce for Communications and Information and the Chairman of the Federal Communications Commission, in consultation with the Secretary of Homeland Security and the Secretary of Health and Human Services, to establish a joint advisory committee to examine the communications capabilities and needs of emergency medical and public health care facilities. According to the Act, the Committee will assess the following: (1) Specific communications capabilities and needs of emergency medical and public health care facilities, including the improvement of basic voice, data, and broadband capabilities; (2) options to accommodate growth of basic and emerging communications services used by emergency medical and public health care facilities; and (3) options to improve integration of communications systems used by emergency medical and public health care facilities with existing or future emergency communications networks. Pursuant to the Act, the Committee will report its findings to the Senate Committee on Commerce, Science, and Transportation and the House of Representatives Committee on Energy and Commerce, no later than February 4, 2008.

The Act also requires that the Committee be composed of individuals with expertise in communications technologies and emergency medical and public health care, including representatives of Federal, State, and local governments, industry and non-profit health organizations, and academia and educational institutions. NTIA and FCC intend to appoint representatives from a balanced cross-section of stakeholder interests as required by the Act. Accordingly, the NTIA and FCC seek qualified individuals with expertise in communications technologies and/or emergency medical and public health care and that are capable of representing the policy and/or technical issues relevant to the work of the Committee.

It is anticipated that the Committee will be comprised of 20-25 individuals. Members will be appointed for a term of six months. Depending upon the nature of the appointment, some members of the Committee may be required to submit certain confidential financial disclosures as a part of the appointment process. Individuals who would not be prepared to furnish such information, if required, should not submit their names for consideration. Members will serve without compensation and neither travel nor per diem will be paid. Members must also be willing and able to dedicate substantial time to the work of this Committee during the appointment.

Nominations and expressions of interest should include a resume or curriculum vita, and should also include a statement summarizing the individual's qualifications and identifying the sector or interest for which the individual has expertise. Individuals should also have substantial experience (5 or more years) in the communications technologies and/or emergency medical and public health care sectors relevant for this Committee's work.

Please note this Notice is not intended to be the exclusive method by which NTIA and FCC are soliciting nominations and expressions of interest and identifying qualified individuals. However, all candidates for membership on the Committee will be subject to the same evaluation criteria.

Dated: August 31, 2007.
John M.R. Kneuer,
Assistant Secretary for Communications and Information.

[FR Doc. E7-17648 Filed 9-6-07; 8:45 am]

BILLING CODE 3510-60-S